DEPARTMENT OF TRANSPORTATION

National Highway Traffic Safety Administration

Petition for Exemption From the Federal Motor Vehicle Motor Theft Prevention Standard; General Motors Corporation

AGENCY: National Highway Traffic Safety Administration, Department of Transportation (DOT).

ACTION: Grant of petition for exemption.

SUMMARY: This document grants in full the petition of General Motors Corporation (GM), for an exemption in accordance with § 543.9(c)(2) of 49 CFR Part 543, Exemption from the Vehicle Theft Prevention Standard, for the GMC small crossover vehicle line beginning with model year (MY) 2010. This petition is granted because the agency has determined that the antitheft device to be placed on the line as standard equipment is likely to be as effective in reducing and deterring motor vehicle theft as compliance with the parts-marking requirements of the Theft Prevention Standard.

DATES: The exemption granted by this notice is effective beginning with model year (MY) 2010.

FOR FURTHER INFORMATION CONTACT: Ms. Deborah Mazyck, Office of International Policy, Fuel Economy and Consumer Standards, NHTSA, 1200 New Jersey Avenue, SE., Washington, DC 20590. Ms. Mazyck's phone number is (202) 366-0846. Her fax number is (202) 493-2290.

SUPPLEMENTARY INFORMATION: In a petition dated September 25, 2008, GM requested an exemption from the parts-marking requirements of the theft prevention standard (49 CFR part 541) for the GMC small crossover vehicle line beginning with MY 2010. The petition requested an exemption from parts-marking pursuant to 49 CFR 543, Exemption from the Vehicle Theft Prevention Standard, based on the installation of an antitheft device as standard equipment for the entire vehicle line.

Under § 543.5(a), a manufacturer may petition NHTSA to grant an exemption for one vehicle line per model year. GM has petitioned the agency to grant an exemption for its small crossover vehicle line beginning with MY 2010. On November 18, 2008, the agency contacted GM by telephone to obtain additional information. GM's submission is considered a complete petition as required by 49 CFR 543.7, in that it meets the general requirements contained in § 543.5 and the specific content requirements of § 543.6.

GM's petition provided a detailed description and diagram of the identity, design, and location of the components of the antitheft device for the new vehicle line. GM will install its passive, transponder-based, electronic immobilizer device (PASS-Key III+) as standard equipment on its GMC small crossover vehicle line beginning with MY 2010. GM stated that the device will provide protection against unauthorized use (i.e., starting and engine fueling), but will not provide any visible or audible indication of unauthorized vehicle entry (i.e., flashing lights or horn alarm).

The PASS-Key III+ device is designed to be active at all times without direct intervention by the vehicle operator. The system is fully armed immediately after the ignition has been turned off and the key removed. Components of the antitheft device include an electronically-coded ignition key, a PASS-Key III+ controller module and an engine control module. The ignition key contains electronics molded into the key head, providing billions of possible electronic combinations. The electronics receive energy and data from the antenna module. Upon receipt of the data, the key will calculate a response to the data using secret information and an internal encryption algorithm, and transmit the response back to the vehicle. The antenna module translates the radio frequency signal received from the key into a digital signal and compares the received response to an internally calculated value. If the values match, the key is recognized as valid and one of 65,534 “Vehicle Security Passwords” is transmitted to the engine control module to enable fueling and starting of the vehicle. If an invalid key code is received, the PASS-Key III+ controller module will send a “Disable Password” to the engine control module and starting, ignition, and fuel will be inhibited.

GM indicated that the theft rates, as reported by the Federal Bureau of Investigation's National Crime Information Center (NCIC), are lower for exempted GM models equipped with the “PASS-Key”-like systems than the theft rates for earlier, similarly constructed models which were parts-marked. Based on the performance of the PASS-Key, PASS-Key II, and PASS-Key III systems on other GM models, and the advanced technology utilized by the modification, GM believes that the PASS-Key III+ antitheft device will be more effective in deterring theft than the parts-marking requirements of 49 CFR Part 541.

In addressing the specific content requirements of 543.6, GM provided information on the reliability and durability of the proposed device. To ensure reliability and durability of the device, GM conducted tests based on its own specified standards. GM provided its own test information on the reliability and durability of its device, and believes that the device is reliable and durable since it complied with the specified requirements for each test. GM stated that the PASS-Key III+ system has been designed to enhance the functionality and theft protection provided by GM's first, second and third generation PASS-Key, PASS-Key II, and PASS-Key III systems. GM also stated that since the authorization code is not handled or contacted by the vehicle operator, the reliability of the PASS-Key III+ is significantly improved over the PASS-Key and PASS-Key II devices. According to GM, this reliability allows the system to return to the “Go/No Go” based system, eliminating the “fail enabled” mode of operation.

GM compared the device proposed for its small crossover vehicle line with other devices which NHTSA has determined to be as effective in reducing and deterring motor vehicle theft as would compliance with the parts-marking requirements. GM stated that the theft rates for the 2003 and 2004 Cadillac CTS and the MY 2004 Cadillac SRX currently installed with the PASS-Key III+ antitheft device exhibit theft rates that are lower than the median theft rate (3.5826) established by the agency. The Cadillac CTS introduced as a MY 2003 vehicle line has been equipped with the PASS-Key III+ device since the start of production. The theft rates for the MY 2003 and 2004 Cadillac CTS are 1.0108 and 0.7681 respectively. Similarly, the Cadillac SRX, introduced as a MY 2004 vehicle, has been equipped with the PASS-Key III+ device since production. The theft rate for MY 2004 Cadillac SRX is 0.7789. GM stated that the theft rates experienced by these lines with installation of the PASS-Key III+ device demonstrate the effectiveness of the device. GM also stated that its crossover vehicle is a corporate twin to the Chevrolet Equinox which is equipped with the PASS-Key III+ device and already exempt from the parts-marking requirements. The average theft rate for the Chevrolet Equinox using two model years' data is 1.2073. The agency agrees that the device is substantially similar to devices for which the agency has previously approved exemptions.

Based on comparison of the reduction in the theft rates of GM vehicles using a passive theft deterrent device with an audible/visible alarm system to the reduction in theft rates for GM vehicle models equipped with a passive antitheft device without an alarm, GM finds that the lack of an alarm or attention attracting device does not compromise the theft deterrent performance of a system such as PASS-Key III+.

GM's proposed device lacks an audible or visible alarm. Therefore, this device cannot perform one of the functions listed in 49 CFR part 543.6(a)(3), that is, to call attention to unauthorized attempts to enter or move the vehicle. However, theft data have indicated a decline in theft rates for vehicle lines equipped with comparable devices that have received full exemptions from the parts-marking requirements. In these instances, the agency has concluded that the lack of a audible or visible alarm has not prevented these antitheft devices from being effective protection against theft.

Based on the evidence submitted by GM, the agency believes that the antitheft device for the GM small crossover vehicle line is likely to be as effective in reducing and deterring motor vehicle theft as compliance with the parts-marking requirements of the Theft Prevention Standard (49 CFR 541).

The agency concludes that the device will provide four of the five types of performance listed in § 543.6(a)(3): promoting activation; preventing defeat or circumvention of the device by unauthorized persons; preventing operation of the vehicle by unauthorized entrants; and ensuring the reliability and durability of the device.

Pursuant to 49 U.S.C. 33106 and 49 CFR 543.7 (b), the agency grants a petition for exemption from the parts-marking requirements of part 541, either in whole or in part, if it determines that, based upon substantial evidence, the standard equipment antitheft device is likely to be as effective in reducing and deterring motor vehicle theft as compliance with the parts-marking requirements of part 541. The agency finds that GM has provided adequate reasons for its belief that the antitheft device for the GMC small crossover vehicle line is likely to be as effective in reducing and deterring motor vehicle theft as compliance with the parts-marking requirements of the Theft Prevention Standard (49 CFR part 541). This conclusion is based on the information GM provided about its device.

For the foregoing reasons, the agency hereby grants in full GM's petition for exemption for the GMC small crossover vehicle line from the parts-marking requirements of 49 CFR part 541. The agency notes that 49 CFR part 541, Appendix A-1, identifies those lines that are exempted from the Theft Prevention Standard for a given model year. 49 CFR part 543.7(f) contains publication requirements incident to the disposition of all part 543 petitions. Advanced listing, including the release of future product nameplates, the beginning model year for which the petition is granted and a general description of the antitheft device is necessary in order to notify law enforcement agencies of new vehicle lines exempted from the parts marking requirements of the Theft Prevention Standard.

If GM decides not to use the exemption for this line, it should formally notify the agency. If such a decision is made, the line must be fully marked according to the requirements under 49 CFR Parts 541.5 and 541.6 (marking of major component parts and replacement parts).

NHTSA notes that if GM wishes in the future to modify the device on which this exemption is based, the company may have to submit a petition to modify the exemption. Part 543.7(d) states that a part 543 exemption applies only to vehicles that belong to a line exempted under this part and equipped with the antitheft device on which the line's exemption is based. Further, part 543.9(c)(2) provides for the submission of petitions “to modify an exemption to permit the use of an antitheft device similar to but differing from the one specified in that exemption.”

The agency wishes to minimize the administrative burden that part 543.9(c)(2) could place on exempted vehicle manufacturers and itself. The agency did not intend in drafting part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: January 12, 2009.
Stephen R. Kratzke,
Associate Administrator for Rulemaking.

[FR Doc. E9-947 Filed 1-15-09; 8:45 am]

BILLING CODE 4910-59-P